DEPARTMENT OF AGRICULTURE

Forest Service

Notice of Meeting; Federal Lands Recreation Enhancement Act (Title VIII, Pub. L. 108-447)

AGENCY: Rocky Mountain Region, USDA Forest Service.

ACTION: Notice of Meeting.

SUMMARY: The Colorado Recreation Resource Advisory Committee will tentatively meet in Lakewood CO. The purpose of the meeting is to provide the new committee members with the information they will need to be effective committee members. This will include briefings on the Federal Lands Recreation Enhancement, the Federal Advisory Committee Act and other legal requirements as needed. The committee will also elect a chairperson, develop the bylaws and other operating procedures.

DATES: The meeting will be held December 10, 2007 from 1 p.m.-5 p.m. and December 11, 2007 from 9 a.m.-finished. This meeting will only be held if a quorum is present.

ADDRESSES: The meeting will be in the Forest Service Rocky Mountain Regional Office Auditorium, at 740 Simms Street, Golden, CO. Send written comments to Greg Griffith, Designated Federal Official, 740 Simms Street, Golden, CO 80401 or ggriffith@fs.fed.us.

FOR FURTHER INFORMATION CONTACT: Pam DeVore, Colorado Recreation Resource Advisory Committee Coordinator, at 303-275-5043 or pdevore@fs.fed.us.

SUPPLEMENTARY INFORMATION: The meeting is open to the public. This meeting will be the initial meeting of the committee and the agenda will consist of committee organization needs, election of a Chairperson, development of the Charter and By Laws, as well as any other needed committee working processes. Specific fee issues will not be discussed.

Committee discussion is limited to Forest Service, Bureau of Land Management staff and Committee members. However, persons who wish to bring recreation fee matters to the attention of the Committee may file written statements with the Committee staff before or after the meeting. A public input session will be provided and individuals who made written requests by October 24, 2007 will have the opportunity to address the Committee at the meeting.

Check for the status of the meeting at: http://www.fs.fed.us/r2/recreation.

The Recreation RAC is authorized by the Federal Land Recreation Enhancement Act, which was signed into law by President Bush in December 2004.

Dated: November 28, 2007.
Greg Griffith,
Colorado Recreation Resource Advisory Committee.

[FR Doc. 07-5933 Filed 12-5-07; 8:45 am]

BILLING CODE 3410-11-M